DEPARTMENT OF THE INTERIOR

National Park Service

[N6329; NPS-WASO-NAGPRA-NPS0040517; PPWOCRADN0-PCU00RP14.R50000]

Notice of Intended Repatriation: California Department of Transportation, District 7, Los Angeles, CA

AGENCY: National Park Service, Interior.

ACTION: Notice.

SUMMARY: In accordance with the Native American Graves Protection and Repatriation Act (NAGPRA), California Department of Transportation (Caltrans), intends to repatriate certain cultural items that meet the definition of unassociated funerary objects, sacred objects, and/or objects of cultural patrimony and that have a cultural affiliation with the Indian Tribes or Native Hawaiian organizations in this notice.

DATES: Repatriation of the cultural items in this notice may occur on or after August 27, 2025.

ADDRESSES: Send additional, written requests for repatriation of the cultural items in this notice to Caprice Harper, California Department of Transportation, 100 S Main Street, MS-16A, Los Angeles, CA 90012, email caprice.harper@dot.ca.gov.

SUPPLEMENTARY INFORMATION: This notice is published as part of the National Park Service's administrative responsibilities under NAGPRA. The determinations in this notice are the sole responsibility of Caltrans, and additional information on the determinations in this notice, including the results of consultation, can be found in the summary or related records. The National Park Service is not responsible for the determinations in this notice.

Abstract of Information Available

A total of 16 lots of cultural items have been requested for repatriation. The five lots of objects of cultural patrimony include lithics/debitage, groundstone, ecofacts, fire affected rock, and faunal bone. The 11 lots of unassociated funerary objects include lithics/debitage, groundstone, ecofacts, fire affected rock, faunal bone, personal adornments, shells, beads, ceremonial items, pottery, and post-contact or modern items.

The objects of cultural patrimony were recovered from CA-LAN-4620, CA-LAN-4621, and CA-LAN-4633 in 2015-2016 as a part of Caltrans' State Route 138 Northwestern Corridor Improvements Project in the Antelope Valley, west of Lancaster, in Los Angeles County. They are currently in the custody of the Tejon Tribal Curation Facility under Accession LAN-1.

The unassociated funerary objects were recovered from CA-SBR-66, CA-SBR-182, CA-SBR-6312, CA-SBR-7044/H, CA-SBR-12336, and CA-LAN-4189H in 2006 as a part of the Southern California Logistics Airport Rail Service (SCLARS) Project and in 2014 as a part of the High Desert Corridor (HDC) Project. They are currently in the custody of the San Bernardino County Museum (SBCM) under Accession SBCM-6352.

There are no known/documented potentially hazardous substances used to treat any of the cultural items.

Determinations

Caltrans has determined that:

• The 11 lots of unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The five lots of objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Yuhaaviatam of San Manuel Nation (previously listed as San Manuel Band of Mission Indians, California).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 27, 2025. If competing requests for repatriation are received, Caltrans must determine the most appropriate requestor prior to repatriation. Requests for joint repatriation of the cultural items are considered a single request and not competing requests. Caltrans is responsible for sending a copy of this notice to the Indian Tribes and Native Hawaiian organizations identified in this notice and to any other consulting parties.

Authority: Native American Graves Protection and Repatriation Act, 25 U.S.C. 3004 and the implementing regulations, 43 CFR 10.9.

Dated: July 1, 2025.
Melanie O'Brien,
Manager, National NAGPRA Program.

[FR Doc. 2025-14149 Filed 7-25-25; 8:45 am]

BILLING CODE 4312-52-P